DEPARTMENT OF ENERGY

Federal Energy Regulatory Commission

[Docket Nos. ER02-1656-017 and ER02-1656-018]

California Independent System Operator Corporation; Notice of Staff Technical Conference

February 6, 2004.

The Federal Energy Regulatory Commission Staff is convening a technical conference regarding the California Independent System Operator Corporation's Revised Comprehensive Market Design Proposal 2002 (MD02), pursuant to the Commission Order issued on October 28, 2003,¹ to further facilitate and better understand several aspects of the proposed MD02. The conference will be held March 3-5, 2004, in San Francisco, California. A separate notice will be issued by the Commission to announce the exact location and final agenda of the Staff Technical Conference.

¹ California Independent System Operator Corporation, 1.

In addition, by this notice we inform interested parties that the Commission has cancelled the plans for the February 24-25, 2004, technical conference discussed during the conference on January 28-29, 2004.

The conference is open for the public to attend, and registration is not required. For more information about the conference, please contact: Olga Kolotushkina at (202) 502-6024 or at olga.kolotushkina@ferc.gov.

Magalie R. Salas,
Secretary.

[FR Doc. E4-268 Filed 2-12-04; 8:45 am]

BILLING CODE 6717-01-P